ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, November 9 2017. The meeting will be held in Room SR325 at the Russell Senate Office Building at Constitution and Delaware Avenues NE., Washington, DC, starting at 8:30 a.m.

DATES: The quarterly meeting will take place on Thursday, November 9 2017, starting at 8:30 a.m.

ADDRESSES: The meeting will be held in Room SR325 at the Russell Senate Office Building at Constitution and Delaware Avenues NE., Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our Web site at www.achp.gov.

The agenda for the upcoming quarterly meeting of the ACHP is the following:

I. Chairman's Welcome

II. Section 106 Issues

A. Administration Infrastructure Initiatives

B. ACHP Response to Recent Natural Disasters

C. Proposed Exemption Regarding Railroad and Rail Transit Rights of Way

D. ACHP Report to the President Pursuant to Executive Order 13287

E. Development of an Online Section 106 Forum

F. ACHP Regulatory Review Progress

III. Historic Preservation Policy and Programs

A. Policy Statement on Commemorative Works

B. ACHP Recommendations for the Future of the National Historic Preservation Program

C. Historic Preservation Legislation in the 115th Congress

D. ACHP Speakers' Bureau Proposal

E. ACHP/HUD Historic Preservation Award Follow Up

IV. New Business

V. Adjourn

The meetings of the ACHP are open to the public. If you need special accommodations due to a disability, please contact Cindy Bienvenue, 202-517-0202 or cbienvenue@achp.gov, at least seven (7) days prior to the meeting.

Authority: 54 U.S.C. 304102.

Dated: October 18, 2017.
Javier E. Marques,
General Counsel.

[FR Doc. 2017-23000 Filed 10-23-17; 8:45 am]

BILLING CODE 4310-K6-P